DEPARTMENT OF AGRICULTURE

Rural Telephone Bank

Sunshine Act Meeting Notice

ACTION: Staff Briefing for the Board of Directors.

Time and date: 2 p.m., Thursday, May 8, 2003.

Place: Conference Room 104-A, Jamie L. Whitten Federal Building, U.S. Department of Agriculture, 12th & Jefferson Drive, SW., Washington, DC.

Status: Open.

Matters to be discussed: 1. Broadband Loan Program update.

2. Privatization issues.

3. Proposed fiscal year 2004 budget.

4. Director liability.

5. Administrative issues.

ACTION: Board of Directors meeting.

Time and date: 9 a.m., Friday, May 9, 2003.

Place: Conference Room 104-A, Jamie L. Whitten Federal Building, U.S. Department of Agriculture, 12th & Jefferson Drive, SW., Washington, DC.

Status: Open.

Matters to be considered: The following matters have been placed on the agenda for the Board of Directors meeting:

1. Call to order.

2. Action on Minutes of the February 14, 2003 board meeting.

3. Secretary's Report on loans approved in second quarter, FY 2003.

4. Treasurer's Report.

5. Discussion of privatization of the Rural Telephone Bank.

6. Governor's Remarks.

7. Adjournment.

FOR FURTHER INFORMATION CONTACT: Roberta D. Purcell, Assistant Governor, Rural Telephone Bank, (202) 720-9554.

Dated: April 29, 2003.
Hilda Gay Legg,
Governor, Rural Telephone Bank.

[FR Doc. 03-10930 Filed 4-29-03; 3:34 pm]

BILLING CODE 3410-15-P